DEPARTMENT OF THE INTERIOR

Bureau of Land Management

[LLUT980300-112100000-PH0000-24-1A]

Notice of Utah's Resource Advisory Council (RAC) Subcommittee Meeting

AGENCY: Bureau of Land Management, Interior.

ACTION: Notice of public meeting

SUMMARY: In accordance with the Federal Land Policy and Management Act (FLPMA) and the Federal Advisory Committee Act of 1972, the U.S. Department of the Interior, Bureau of Land Management's (BLM) Utah Resource Advisory Council (RAC) Subcommittee will meet as indicated below.

DATES: The Utah RAC Subcommittee will meet on Tuesday, November 16, 2010, from 11 a.m. until 2 p.m., at the Utah Department of Agriculture and Food (UDAF) office, second floor conference room.

ADDRESSES: The UDAF is located at 350 North Redwood Road, Salt Lake City, Utah 84114.

FOR FURTHER INFORMATION CONTACT: Sherry Foot, Special Programs Coordinator, Utah State Office, Bureau of Land Management, P.O. Box 45155, Salt Lake City, Utah 84145-0155; phone (801) 539-4195.

SUPPLEMENTARY INFORMATION: The Utah RAC has formed a subcommittee to explore ways to involve more people and groups in the proposed Rich County Allotment Consolidation Project. While there is currently significant support for the project from many conservation organizations, those leading the effort have not yet involved many of the energy development and recreational user communities. The subcommittee will be recommending ideas and initiatives to help the RAC gain consensus for this landscape-scale effort that affects lands managed by the BLM. Agenda topics will include: Review the presentation on the Rich County Allotment Consolidation Project that was given at the September RAC meeting; review the highlights of the project and discuss relevance to all user groups; provide list of agencies & Non-Governmental Organizations (NGO's) that have been exposed to the project; identify others that should be involved and methods for involving them; and, potential to expand the concept to other areas.

A half-hour public comment period, where the public may address the Subcommittee, is scheduled from 1:30 p.m. until 2 p.m. Written comments may be sent to the BLM's address listed above. Transportation, lodging, and meals are the responsibility of the participating public.

Dated: October 13, 2010.
Kent Hoffman,
Acting State Director.

[FR Doc. 2010-26365 Filed 10-19-10; 8:45 am]

BILLING CODE 4310-DQ-P